DEPARTMENT OF DEFENSE

Department of the Army; Corps of Engineers

Intent To Prepare a Draft Environmental Impact Statement (DEIS) for a Dam Safety Assurance Study, Tuttle Creek Lake Project, Manhattan, Kansas

AGENCY: U.S. Army Corps of Engineers, DoD.

ACTION: Notice of Intent.

SUMMARY: The purpose of this study is to consider the economic, environmental, and social impacts that may occur as a result of various alternatives being considered in a dam safety assurance study, to consider embankment seismic remediation, under the authority of Section 1203 of the water Resources Development Act of 1986 (Pub. L. 99-662), Tuttle Creek Lake Project, Manhattan, Kansas.

FOR FURTHER INFORMATION CONTACT: Questions regarding the proposed study and DEIS can be answered by the Project Manager, Mr. David L. Mathews, telephone number (816) 983-3696, Chief, Dam Safety and Support Section, Geotechnical Branch, U.S. Army Corps of Engineers, 700 Federal Building, 601 E. 12th Street, Kansas City, Missouri 64106-2896.

SUPPLEMENTARY INFORMATION: 1. The Kansas City District (KCD), Corps of Engineers, is undertaking a Dam Safety Assurance Study, to consider embankment seismic remediation measures, under the authority of Section 1203 of the Water Resources Development Act of 1986 (Pub. L. 99-662, for the Tuttle Creek Lake Project, Manhattan, Kansas.

2. KCD's study will evaluate the no-action alternative as well as various structural alternatives to determine:

a. Seismic remediation costs and benefits;

b. Regional social and economic impacts; and

c. Environmental impacts and mitigation measures.

3. Reasonable alternatives KCD will examine include the feasibility of various structural measures to address dam safety issues concerning seismic stability of the Tuttle Creek dam.

4. Scoping Process.

a. A public workshop will be held at Manhattan, Kansas in the Fall of 2000. The exact date, time, and location of the workshop will be announced when the details are finalized. Additional workshops will be held as the study progresses to keep the public informed. Coordination meetings will be held as needed with affected/concerned local, State, and Federal governmental entities.

b. These workshops and meetings, as well as any meetings which were previously held regarding this project, will serve as the collective scoping process for preparation of the DEIS. No formal “scoping” meeting will be held.

c. Draft documents forthcoming from the study will be distributed to Federal, State, and local agencies, as well as interested members of the general public, for review and comment.

d. Significant issues to be analyzed in depth include evaluations of:

(1) Dam safety;

(2) Impacts to fish and wild resources;

(3) Recreation;

(4) Navigation; and

(5) Water supply.

e. Environmental consultation and review will be conducted in accordance with the requirements of the National Environmental Policy Act of 1969, as per regulations of the Council of Environmental Quality (Code of Federal Regulations, 40 CFR Parts 1500-1508), and other applicable laws, regulations, and guidelines.

5. The anticipated date of availability of the DEIS for public review is January 2002.

Gregory D. Showalter,
Army Federal Register Liaison Officer.

[FR Doc. 00-17506 Filed 7-10-00; 8:45 am]

BILLING CODE 3710-KN-U